OFFICE OF PERSONNEL MANAGEMENT

[OMB No. 3206-0165]

Submission for OMB Review; Comment Request for Revision of Expiring Information Collections

AGENCY: Office of Personnel Management.

ACTION: Notice.

SUMMARY: In accordance with the Paperwork Reduction Act of 1995 (Pub. L. 104-13), this notice announces that the Office of Personnel Management intends to submit to the Office of Management and Budget a request for revision of expiring information collections. Depending upon the type of background investigation requested by the Federal agency, the General Request for Investigative Information (INV 40), Investigative Request for Employment Data and Supervisor Information (INV 41) (5/02), the Investigative Request for Personal Information (INV 42) (5/02), the Investigative Request for Educational Registrar and Dean of Students Record Data (INV 43) (5/02), and the Investigative Request for Law Enforcement Data (INV 44) (5/02) are forms used in the processing of background investigations to assist in determining whether an applicant is suitable for Federal employment or should be granted a security clearance. The INV 40, General Request for Investigative Information, is used to accommodate sources for which the collection formats of INV 41-44 are awkward or inappropriate. The INV 41, Investigative Request for Employment Data and Supervisor Information, is sent to past and present employers and supervisors identified on the applicant's investigative questionnaire. The INV 42, Investigative Request for Personal Information, is sent to references listed by the subject of investigation. The INV 43, Investigative Request for Educational Registrar and Dean of Students Record Data, is sent to registrars and dean of students of the educational institutions listed by the subject of an investigation to verify enrollment and degree information, and determine whether there is any relevant adverse information. The INV 44, Investigative Request for Law Enforcement Data, is sent to law enforcement jurisdictions in which the subject has had any significant period of activity during the designated scope of investigation. The INV 44 inquires about any outstanding warrants or record of criminal activity involving the subject of investigation.

The INV 40, INV 41, INV 42, INV 43, and INV 44 ask the recipient to respond to questions concerning the applicant's honesty and integrity, as well as other security-related questions involving general conduct, use of intoxicants, finances and mental health.

Approximately 460,000 INV 40 inquiries are sent to Federal and non-federal agencies annually. The INV 40 takes approximately five minutes to complete. The estimated annual burden is 38,300 hours. Approximately 1,300,000 INV 41 inquiries are sent to past and present employers and supervisors. The INV 41 takes approximately five minutes to complete. The estimated annual burden is 108,300 hours. Approximately 980,000 INV 42 inquiries are sent to individuals annually. The INV 42 takes approximately five minutes to complete. The estimated annual burden is 81,700 hours. Approximately 261,000 INV 43 inquiries are sent to educational institutions annually. The INV 43 takes approximately five minutes to complete. The estimated annual burden is 21,750 hours. Approximately 1,000,000 INV 44 inquiries are sent to law enforcement agencies annually. The INV 44 takes approximately five minutes to complete. The estimated annual burden is 83,300 hours. The total number of respondents for the INV 40, INV 41, INV 42, INV 43, and INV 44 is 4,001,000 and the total estimated burden is 333,350 hours.

For copies of this proposal, contact Mary Beth Smith-Toomey on (202) 606-8358, Fax (202) 418-3251 or e-mail to mbtoomey@opm.gov. Please be sure to include a mailing address with your request.

DATES: Comments on this proposal should be received within 30 calendar days from the date of this publication.

ADDRESSES: Send or deliver comments to: Kathy Dillaman, Deputy Associate Director, Center for Federal Investigative Services, U.S. Office of Personnel Management, 1900 E. Street, Room 5416, Washington, DC 20415, and Brenda Aguilar, Desk Officer, Office of Information and Regulatory Affairs, Office of Management and Budget, New Executive Office Building, NW., Room 10235, Washington, DC 20503.

For Information Regarding Administrative Coordination Contact: Sherry Tate, Program Analyst, Standards and Evaluations Group, Center for Federal Investigative Services, Office of Personnel Management. (202) 606-0434.

Office of Personnel Management.
Linda M. Springer,
Director.

[FR Doc. 05-21051 Filed 10-20-05; 8:45 am]

BILLING CODE 6325-38-P